DEPARTMENT OF ENERGY

Federal Energy Regulatory Commission

Combined Notice of Filings #2

Take notice that the Commission received the following electric rate filings:

Docket Numbers: ER17-310-001.

Applicants: Southwest Power Pool, Inc.

Description: Compliance filing: Clarify TCR Electrically Equivalent Settlement Location Compliance Filing to be effective 1/5/2017.

Filed Date: 1/17/17.

Accession Number: 20170117-5154.

Comments Due: 5 p.m. ET 2/7/17.

Docket Numbers: ER17-800-000.

Applicants: CED White River Solar 2, L.L.C.

Description: § 205(d) Rate Filing: Revisions to Market-Based Rates Tariff to be effective 1/18/2017.

Filed Date: 1/17/17.

Accession Number: 20170117-5173.

Comments Due: 5 p.m. ET 2/7/17.

Docket Numbers: ER17-801-000.

Applicants: Constellation Power Source Generation, LLC.

Description: § 205(d) Rate Filing: Reactive Service Rate Schedule Filings to be effective 3/17/2017.

Filed Date: 1/17/17.

Accession Number: 20170117-5223.

Comments Due: 5 p.m. ET 2/7/17.

Docket Numbers: ER17-802-000.

Applicants: Exelon Generation Company, LLC.

Description: § 205(d) Rate Filing: Reactive Service Rate Schedules to be effective 3/17/2017.

Filed Date: 1/17/17.

Accession Number: 20170117-5224.

Comments Due: 5 p.m. ET 2/7/17.

Docket Numbers: ER17-803-000.

Applicants: Handsome Lake Energy, LLC.

Description: § 205(d) Rate Filing: Reactive Service Rate Schedule Filings to be effective 3/17/2017.

Filed Date: 1/17/17.

Accession Number: 20170117-5225.

Comments Due: 5 p.m. ET 2/7/17.

Docket Numbers: ER17-804-000.

Applicants: Coram California Development, L.P.

Description: § 205(d) Rate Filing: Revisions to Market-Based Rate Tariff to be effective 1/18/2017.

Filed Date: 1/17/17.

Accession Number: 20170117-5259.

Comments Due: 5 p.m. ET 2/7/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 17, 2017.
Nathaniel J. Davis, Sr.,
Deputy Secretary.

[FR Doc. 2017-01633 Filed 1-24-17; 8:45 am]

BILLING CODE 6717-01-P